DEPARTMENT OF AGRICULTURE

Animal and Plant Health Inspection Service

[Docket No. APHIS-2008-0025]

Notice of Decision To Issue Permits for the Importation of Blueberries from Guatemala into the Continental United States

AGENCY: Animal and Plant Health Inspection Service, USDA.

ACTION: Notice.

SUMMARY: We are advising the public of our decision to begin issuing permits for the importation into the continental United States of blueberries from Guatemala. Based on the findings of a pest risk analysis, which we made available to the public for review and comment through a previous notice, we believe that the application of one or more designated phytosanitary measures will be sufficient to mitigate the risks of introducing or disseminating plant pests or noxious weeds via the importation of blueberries from Guatemala.

DATES: Effective Date: May 1, 2008.

FOR FURTHER INFORMATION CONTACT: Mr. Tony Román, Import Specialist, Commodity Import Analysis and Operation Staff, PPQ, APHIS, 4700 River Road Unit 133, Riverdale, MD 20737-1231; (301) 734-8758.

SUPPLEMENTARY INFORMATION:

Background

Under the regulations in “Subpart—Fruits and Vegetables” (7 CFR 319.56 through 319.56-47, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis, can be safely imported subject to one or more of the designated phytosanitary measures listed in paragraph (b) of that section. Under that process, APHIS publishes a notice in the Federal Register announcing the availability of the pest risk analysis that evaluates the risks associated with the importation of a particular fruit or vegetable. Following the close of the 60-day comment period, APHIS may begin issuing permits for importation of the fruit or vegetable subject to the identified designated measures if: (1) No comments were received on the pest risk analysis; (2) the comments on the pest risk analysis revealed that no changes to the pest risk analysis were necessary; or (3) changes to the pest risk analysis were made in response to public comments, but the changes did not affect the overall conclusions of the analysis and the Administrator's determination of risk.

In accordance with that process, we published a notice ¹ in the Federal Register on February 7, 2008 (73 FR 7248-7249, Docket No. APHIS-2008-0025), in which we announced the availability, for review and comment, of a pest risk analysis that evaluates the risks associated with the importation into the continental United States of blueberries from Guatemala. We solicited comments on the notice for 60 days ending on April 7, 2008. We received five comments by that date, from a private citizen, a domestic blueberry industry association, a representative of the Guatemalan government, a Guatemalan exporters' association, and a Guatemalan blueberry grower.

¹ To view the notice, the pest risk analysis, and the comment we received, go to http://www.regulations.gov/fdmspublic/component/main?main=DocketDetail&d=APHIS-2008-0025.

One commenter claimed that the risk assessment that APHIS conducted could not provide an accurate evaluation of the risk of pest introduction because blueberries are not currently grown in Guatemala. Therefore, APHIS is only speculating on which pests could be introduced through this trade, and this does not provide a sufficient basis on which to allow the importation of blueberries from Guatemala.

As noted in the pest risk assessment, the first step in identifying quarantine pests that are likely to follow the pathway is to establish a comprehensive list of potential quarantine pests known to occur in the country or region from which the commodity is to be exported. The comprehensive pest list (table 5 in the pest risk assessment) lists all pests of Vaccinium spp. in Central America and South America for which we found evidence and the quarantine status of the pests with respect to the United States. While the amount of fruit produced and potentially imported into the United States from Guatemala does factor into our overall assessment of risk in terms of the likelihood of introduction of quarantine pests, it does not factor into identifying those quarantine pests that are likely to follow the pathway of imported fresh blueberry fruit.

One commenter requested that all phytosanitary measures under consideration be harmonized between Guatemala and the United States. The commenter claimed that the phytosanitary restrictions imposed on U.S. exports by other countries are often more stringent than what the United States imposes on imports from other countries, and asserted that the phytosanitary regulations need to be equal between the two countries.

Guatemala and the United States are both parties to the International Plant Protection Convention. As such, both countries have agreed to institute only phytosanitary measures that are technically justified, consistent with the pest risk involved, and represent the least restrictive measures available. Given that the conditions in the blueberry growing areas of Guatemala and the United States differ in many important respects—e.g., the Mediterranean fruit fly and South American fruit fly are present in Guatemala but not in the United States—it would not be appropriate or technically justifiable to apply the same phytosanitary measures to blueberries from the two countries.

One commenter suggested that fumigation with methyl bromide at the port of arrival would be a good option, logistically and cost-wise, for exporters shipping small volumes of fruit to the continental United States from Guatemala and suggested that APHIS allow its use as an alternative to the cold treatment.

The risk management document that we made available with our February 2008 notice only considered the use of cold treatment as a mitigation measure. We will, however, examine the evidence for the effectiveness of fumigation with methyl bromide as a means of removing the pests of concern from the pathway and would authorize its use for the treatment of blueberries from Guatemala if the evidence supports that action.

After considering the comments discussed above, we have determined that no changes to the pest risk analysis are necessary. Therefore, in accordance with the regulations in § 319.56-4(c)(2)(ii), we are announcing our decision to begin issuing permits for the importation into the continental United States of blueberries from Guatemala subject to the following conditions:

• The fruit must be cold treated for Mediterranean fruit fly and South American fruit fly using treatment schedule T107-a-1 in accordance with 7 CFR part 305.

• Each shipment of fruit must be accompanied by a phytosanitary certificate issued by the national plant protection organization of Guatemala.

• Each shipment is subject to inspection upon arrival in the United States.

• The fruit must be a commercial consignment as defined in 7 CFR 319.56-2.

These conditions will be listed in the fruits and vegetables manual (available at http://www.aphis.usda.gov/import_export/plants/manuals/ports/downloads/fv.pdf). In addition to these specific measures, the blueberries will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 28th day of April 2008.
Kevin Shea,
Acting Administrator, Animal and Plant Health Inspection Service.

[FR Doc. E8-9579 Filed 4-30-08; 8:45 am]

BILLING CODE 3410-34-P